DEPARTMENT OF TRANSPORTATION

Federal Aviation Administration

Finding of No Significant Impact/Record of Decision on Perimeter Road at Jackson Medgar Wiley Evers International Airport Jackson, MS

AGENCY: Federal Aviation Administration, DOT.

ACTION: Notice of availability of finding of no significant impact/record of decision.

SUMMARY: The Federal Aviation Administration (FAA) is issuing this notice to advise the public that it has issued a Finding of No Significant Impact (FONSI)/Record of Decision (ROD) for the Environmental Assessment (EA) that evaluated the rehabilitation of an existing 5.4-mile service road and construction of two connecting service roads at Jackson Medgar Wiley Evers International Airport (JAN) in Jackson, Mississippi. The FONSI/ROD provides final agency determination and approval for those federal actions by the FAA necessary to implement the project. The effective date of the FAA's determination on the FONSI/ROD is August 30, 2019.

FOR FURTHER INFORMATION CONTACT: Brian Hendry, Community Planner, Jackson Airports District Office, 100 West Cross St., Suite B, Jackson, MS 39208. Telephone (601) 664-9897.

SUPPLEMENTARY INFORMATION: The Jackson Municipal Airport Authority (JMAA) has requested financial assistance to rehabilitate an existing 5.4-mile service road and construction of two connecting service roads. Issuing an Airport Improvement Program Grant is considered a Federal action and requires and environmental determination by the FAA.

JMAA has completed an EA for the project known as the Rehabilitation of Outer Perimeter Service Road. The project involves the rehabilitation an existing 5.4-mile service road as well as construction of two connecting service roads that will provide safer and more secure access to the service perimeter road of Jackson Medgar Wiley Evers International Airport (JAN). The EA was prepared in accordance with the National Environmental Policy Act of 1969 (NEPA), Council on Environmental Quality (CEQ) Regulations, 40 Code of Federal Regulations (CFR) Parts 1500-1508, and FAA Orders 1050.1F and 5050.4B.

The objective of the EA was to evaluate alternatives that met the airport sponsor's purpose and need statement. The airport sponsor's purpose and need statement is the rehabilitation of the Perimeter Service Road that will enhance the safety and security of the airport by rehabilitating the existing perimeter service road inside the perimeter fence as well as paving new roadway areas for contiguous access. These improvements will provide airport owned and emergency vehicle access to all areas of the airfield to support Aircraft Rescue and Firefighting (“ARFF”) functions and security patrols performed by JMAA's Airport Operations Department staff. Currently, the JAN property boundary lacks perimeter service roads in certain areas making access for Airport Operations extremely difficult, especially after rainy conditions. (See Appendix A—Site Layout Map).

Two (2) alternatives to the proposed action were examined to determine feasibility and ability to meet the purpose and need.

Alternative 1: Rehabilitate Existing Road with Improved Enhancements and Features. This would provide repairs enhancements and features to rehabilitate the existing road. This is anticipated to be more cost effective than adding the additional roadway. However, only rehabilitating the existing road is determined not to meet full purpose and need for project with regard to safety and security. Alternative 2: No Action: Results in further deterioration of the existing perimeter service road. Of the build alternatives proposed, only one (Alternatives 1) met the purpose and need statement.

The EA documents show that the No Action Alternative would not satisfy the purpose and need statement.

As addressed in the EA, Alternative 1 has the potential to affect wetland areas on the airport property comprised of frequently to periodically mowed herbaceous field. The delineated wetland areas are represented within Appendix E of the EA. The Airport will secure the necessary construction and other permits required by MDEQ and USACE regarding Section 401 water quality certification. Section 404 permit(s) as administered by the USACE will be secured prior to construction. The Preferred Alternative could require an Individual Section 404 permit. Refined design will dictate impacts and thus the necessary permitting process. Any mitigation for unavoidable impacts will occur at a USACE-approved mitigation bank.

As part of the EA process, the FAA coordinated with the U.S. Army Corps. Of Engineers. The project was coordinated with the U.S. Army Corps of Engineers (USACE) as the key federal agency with jurisdiction to define wetlands in the United States. The preferred alternative was chosen over the No Action Alternative due to lack of access via the service road that would compromise airport safety and accessibility in case of emergency and for regular operations. It has been determined there will be wetland impacts of 0.52 acres. USACE indicates the proposed work will require a permit. Mitigation will be required as part of USACE's permitting process. (USACE April 26, 2019 letter Appendix E).

The EA included outreach with other federal, state, and local agencies such as U.S. Fish and Wildlife Service. Dept. of Transporation, and the MS Dept. of Archives and History (State Historic Preserviation Office)

After reviewing the EA, the FAA concluded impacts, with mitigation, would be below the level of significance and issued the FONSI/ROD on August 30, 2019. The FONSI/ROD presents the FAA's final decision and approvals of the actions identified, including those taken under the provisions of Title 49 of the United Sates Code, Subtitle VII, Parts A and B. These actions constitute a final order of the Administrator subject to review by the Court of Appeals of the United States in accordance with the provisions of 49 U.S.C. 46110.

Availability of EA and FONSI/ROD: Copies of the EA and FONSI/ROD are available at the locations listed below. The documents are available during normal business hours unless otherwise indicated.

Federal Aviation Administration, Jackson Airports District Office, 100 West Cross St. Suite B, Jackson, MS 39208.

* Please call (601) 664-9897 to schedule an appointment to view documents at this location.

Issued in Jackson, MS on August 30, 2019.
Rans Black,
Manager, Jackson Airports District Office.

[FR Doc. 2019-21415 Filed 10-1-19; 8:45 am]

BILLING CODE 4910-13-P